DEPARTMENT OF TRANSPORTATION

Federal Aviation Administration

14 CFR Part 39

[Docket No. FAA-2004-19446; Directorate Identifier 2004-NM-130-AD; Amendment 39-13967; AD 2005-03-11]

RIN 2120-AA64

Airworthiness Directives; Boeing Model 767-200 and -300 Series Airplanes

AGENCY: Federal Aviation Administration (FAA), Department of Transportation (DOT).

ACTION: Final rule; correction.

SUMMARY: The FAA is correcting a typographical error in an existing airworthiness directive (AD) that was published in the Federal Register on February 11, 2005 (70 FR 7174). The error resulted in an incorrect AD number. This AD applies to certain Boeing Model 767 series airplanes. This AD requires repetitive detailed and eddy current inspections of the aft pressure bulkhead for damage and cracking, and repair if necessary. This AD also requires one-time detailed and high frequency eddy current inspections of any “oil-can” located on the aft pressure bulkhead, and related corrective actions if necessary.

DATES: Effective March 18, 2005.

ADDRESSES: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19446; the directorate identifier for this docket is 2004-NM-130-AD.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: On January 31, 2005, the FAA issued AD 2005-03-11, amendment 39-13967 (70 FR 7174, February 11, 2005), for certain Boeing Model 767 series airplanes. The AD requires repetitive detailed and eddy current inspections of the aft pressure bulkhead for damage and cracking, and repair if necessary. The AD also requires one-time detailed and high frequency eddy current inspections of any “oil-can” located on the aft pressure bulkhead, and related corrective actions if necessary.

As published, that final rule incorrectly specified the AD number in a single location in the AD as “2005-NM-03-11” instead of “2005-03-11.”

No other part of the regulatory information has been changed; therefore, the final rule is not republished in the Federal Register.

The effective date of this AD remains March 18, 2005.

§ 39.13 [Corrected]

In the Federal Register of February 11, 2005, on page 7175, in the first column, paragraph 2. of PART 39—AIRWORTHINESS DIRECTIVES is corrected to read as follows:

* * * * *

2005-03-11 Boeing: Amendment 39-13967. Docket No. FAA-2004-19446; Directorate Identifier 2004-NM-130-AD.

* * * * *

Issued in Renton, Washington, on February 28, 2005.
Ali Bahrami,
Manager, Transport Airplane Directorate, Aircraft Certification Service.

[FR Doc. 05-4825 Filed 3-10-05; 8:45 am]

BILLING CODE 4910-13-P